DEPARTMENT OF TRANSPORTATION

Coast Guard

33 CFR Parts 110 and 165

[CGD05-00-002]

RIN 2115-AA97, AA98

OPSAIL 2000, Delaware River, Philadelphia, PA

AGENCY: Coast Guard, DOT.

ACTION: Notice of proposed rulemaking.

SUMMARY: The Coast Guard proposes to establish temporary regulations in the Delaware River, Philadelphia, Pennsylvania for OPSAIL 2000 activities. This action is necessary to provide for the safety of life on navigable waters before, during, and after OPSAIL 2000 events. This action will restrict vessel traffic in the Delaware River between Anchorage 9 (Mantua Creek anchorage) and the Benjamin Franklin Bridge.

DATES: Comments and related material must reach the Coast Guard on or before May 12, 2000.

ADDRESSES: You may mail comments and related material to the Waterways and Waterfront Facilities Branch, Coast Guard Marine Safety Office/Group Philadelphia, One Washington Ave., Philadelphia, Pennsylvania 19147 or deliver them to the same address between 8 a.m. and 4 p.m., Monday through Friday, except Federal holidays. The Waterways and Waterfront Facilities Branch, Coast Guard Marine Safety Office/Group Philadelphia maintains the public docket for this rulemaking. Comments and materials received from the public as well as documents indicated in this preamble as being available in the docket, will become part of this docket and will be available for inspection or copying at the above address between 8:30 a.m. and 2:30 p.m., Monday through Friday, except Federal holidays.

FOR FURTHER INFORMATION CONTACT: Lieutenant (junior grade) Kirsten Codel, Waterways and Waterfront Facilities Branch, Coast Guard Marine Safety Office/Group Philadelphia, at (215) 271-4889.

SUPPLEMENTARY INFORMATION:

Request for Comments

We encourage you to participate in this rulemaking by submitting comments and related material. If you do so, please include your name and address, identify the docket number for this rulemaking (CGD05-00-002), indicate the specific section of this document to which each comment applies, and give the reason for each comment. Please submit all comments and related material in an unbound format, no larger than 8½ by 11 inches, suitable for copying. The comment period for this regulation is 45 days. This time period is adequate to allow local input because the event is highly publicized and the shortened comment period will allow the full 30-day publication requirement prior to the final rule becoming effective. If you would like to know they reached us, please enclose a stamped, self-addressed postcard or envelope. We will consider all comments and material received during the comment period. We may change this proposed rule in view of them.

Public Meeting

We do not now plan to hold a public meeting. But you may submit a request for a meeting by writing to Commanding Officer, Coast Guard Marine Safety Office/Group Philadelphia, One Washington Ave., Philadelphia, Pennsylvania 19147, explaining why one would be beneficial. If we determine that one would aid this rulemaking, we will hold one at a time and place announced by a later notice in the Federal Register.

Background and Purpose

Philadelphia OPSAIL 2000, Inc., is sponsoring OPSAIL 2000 activities in the Delaware River, Philadelphia, Pennsylvania. Planned events include the arrival of a number of international Tall Ships at Anchorage 9 (Mantua Creek anchorage) on June 22, 2000 and a Parade of Sail from that anchorage, upriver to the Benjamin Franklin Bridge on June 23, 2000.

The Coast Guard anticipates a large spectator fleet for this event. Operators should expect significant vessel congestion along the parade route.

The purpose of these regulations is to promote maritime safety and protect participants and the boating public immediately prior to, during, and after the scheduled events. The regulations will establish a clear parade route for the OPSAIL 2000 vessels, provide a safety buffer around the participating vessels while they are at anchor and in transit, and in certain anchorage areas, modify existing anchorage regulations for the benefit of participants and spectators. The regulations will affect the movement of all vessels operating in the specified areas of the Delaware River.

It may be necessary for the Coast Guard to establish safety or security zones in addition to these regulations to safeguard dignitaries and certain vessels participating in the event. If the Coast Guard deems it necessary to establish such zones at a later date, the details of those zones will be announced separately via the Federal Register, Local Notice to Mariners, Safety Voice Broadcasts, and any other means available.

All vessel operators and passengers are reminded that vessels carrying passengers for hire or that have been chartered and are carrying passengers may have to comply with certain additional rules and regulations beyond the safety equipment requirements for all pleasure craft. When a vessel is not being used exclusively for pleasure, but rather is engaged in carrying passengers for hire or has been chartered and is carrying the requisite number of passengers, the vessel operator must possess an appropriate license and the vessel may be subject to inspection. The definition of the term “passenger for hire” is found in 46 U.S.C. 2101(21a). In general, it means any passenger who has contributed any consideration (monetary or otherwise) either directly or indirectly for carriage onboard the vessel. The definition of the term “passenger” is found in 46 U.S.C. 2101(21). It varies depending on the type of vessel, but generally means individuals carried aboard vessels except for certain specified individuals engaged in the operation of the vessel or the business of the owner/charterer. The law provides for substantial penalties for any violation of applicable license and inspection requirements. If you have any questions concerning the application of the above law to your particular case, you should contact the Coast Guard at the address listed in ADDRESSES for additional information.

Vessel operators are reminded they must have sufficient facilities on board their vessels to retain all garbage and untreated sewage. Discharge of either into any waters of the United States is strictly forbidden. Violators may be assessed civil penalties up to $25,000 or face criminal prosecution.

We recommend that vessel operators visiting the Philadelphia area for this event obtain an up to date edition of National Ocean Service Chart 12313 to avoid anchoring within a charted cable or pipeline area.

With the arrival of OPSAIL 2000 and spectator vessels in the Philadelphia area for this event, it will be necessary to curtail normal port operations to some extent. Interference will be kept to the minimum considered necessary to ensure the safety of life on the navigable waters immediately before, during, and after the scheduled events.

Discussion of Proposed Rule

The OPSAIL 2000 vessels are scheduled to arrive at Anchorage 9 (Mantua Creek anchorage) on June 22, 2000. The lead vessel is scheduled to begin the Parade of Sail at 9 a.m. on June 23, 2000, and will follow a parade route of approximately 8 nautical miles from that anchorage, upriver to the Benjamin Franklin Bridge. Two larger OPSAIL 2000 vessels which are unable to sail under the Walt Whitman Bridge will depart the Parade of Sail in the vicinity of the Schuylkill River and be berthed at the Philadelphia Naval Shipyard. The remainder of the OPSAIL 2000 vessels will be berthed along the Philadelphia, PA and Camden, NJ waterfronts as they complete the Parade of Sail.

The safety of parade participants and spectators will require that spectator craft be kept at a safe distance from the parade route during these vessel movements. The Coast Guard proposes using safety zones along the parade route to keep all vessels not involved in the Parade of Sail a safe distance from the OPSAIL 2000 vessels. The parade route has been segmented in this rulemaking to facilitate the earliest possible reopening of the waterway once all OPSAIL 2000 vessels have cleared a particular segment of the route, but portions of the Delaware River will remain closed to all traffic until all of the OPSAIL 2000 vessels are safely moored at their assigned berths or have departed the event area.

The Coast Guard also intends to temporarily modify the existing anchorage regulations found at 33 CFR 110.157 to accommodate OPSAIL 2000 and spectator vessels. Anchorage 9 will be closed to all vessels except OPSAIL 2000 vessels that will be using it as the staging area for the Parade of Sail. Vessels will not be allowed to anchor in Anchorage 10 and Anchorage 11 to enable spectator vessels to safely follow the Parade of Sail. The southern portion of Anchorage 13, and the northern portion of Anchorage 12 will be closed because they are in the portion of the river that the OPSAIL 2000 vessels will be using to maneuver in preparation of mooring. The southern portion of Anchorage 12 will be designated exclusively for spectator vessels.

Regulatory Evaluation

This proposed rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040; February 26, 1979).

We expect the economic impact of this proposed rule to be so minimal that a full Regulatory Evaluation under paragraph 10e of the regulatory policies and procedures of DOT is unnecessary.

The primary impact of these regulations will be on vessels wishing to transit the affected waterways during the Parade of Sail on June 23, 2000. Although these regulations prevent traffic from transiting portions of the Delaware River during the event, that restriction is limited in duration, affects only a limited area, and will be well publicized to allow mariners to make alternative plans for transiting the affected area. Moreover, the magnitude of the event itself will severely hamper or prevent transit of the waterway, even absent these regulations designed to ensure it is conducted in a safe and orderly fashion.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule would affect the following entities, some of which might be small entities: The owners or operators of vessels intending to operate or anchor in portions of the Delaware River in the vicinity of Philadelphia, Pennsylvania. The regulations would not have a significant impact on a substantial number of small entities for the following reasons: The restrictions are limited in duration, affect only limited areas, and will be well publicized to allow mariners to make alternative plans for transiting the affected areas. Moreover, the magnitude of the event itself will severely hamper or prevent transit of the waterway, even absent these regulations designed to ensure it is conducted in a safe and orderly fashion.

If you think that your business, organization or governmental jurisdiction qualifies as a small entity and that this proposed rule would have a significant economic impact on it, please submit a comment (see ADDRESSES) explaining why you think it qualifies and how and to what degree this proposed rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Lieutenant (junior grade) Kirsten Codel, Waterways and Waterfront Facilities Branch, Coast Guard Marine Safety Office/Group Philadelphia, at (215) 271-4889.

Collection of Information

This proposed rule would call for no new collection of information under the Paperwork Reduction Act of 1995 (44 U.S.C. 3501-3520.).

Federalism

We have analyzed this proposed rule under E.O. 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

We have analyzed this proposed rule under E.O. 13045, Protection of Children from Environmental Health Risks and Safety Risks. This rule is not an economically significant rule and does not concern an environmental risk to health or risk to safety that may disproportionately affect children.

Environment

We considered the environmental impact of this proposed rule and concluded that, under figure 2-1, paragraph (34)(g), of Commandant Instruction M16475.1C; this proposed rule is categorically excluded from further environmental documentation. A “Categorical Exclusion Determination” will be available in the docket where indicated under ADDRESSES. By controlling vessel traffic during these events, this proposed rule is intended to minimize environmental impacts of increased vessel traffic during the transits of event vessels.

List of Subjects

33 CFR Part 110

Anchorage grounds.

33 CFR Part 165

Harbors, Marine safety, Navigation (water), Reporting and recordkeeping requirements, Security measures, Waterways.

Regulation

For the reasons discussed in the preamble, the Coast Guard proposes to amend 33 CFR Parts 110 and 165 as follows:

PART 110—[AMENDED]

1. The authority citation for Part 110 continues to read as follows:

Authority: 33 U.S.C. 471, 1221 through 1236, 2030, 2035, 2071; 49 CFR 1.46 and 33 CFR 1.05-1(g).

2. From 8 a.m. on June 22, 2000 until 4 p.m. on June 23, 2000 § 110.157 is amended by adding paragraph (d) to read as follows:

§ 110.157 Delaware Bay and River

* * * * *

(d) Not withstanding paragraphs (a) through (c) of this section, the following temporary regulations are in effect from 8 a.m. on June 22, 2000 until 4 p.m. on June 23, 2000 for OPSAIL 2000.

(1) Anchorage 9 will be closed to all vessels except OPSAIL 2000 vessels. “OPSAIL 2000 vessels” includes all vessels participating in Operation Sail 2000 under the auspices of the Marine Event Permit submitted for the Port of Philadelphia and approved by the Commander, Fifth Coast Guard District.

(2) No vessel may anchor in Anchorage 10, or Anchorage 13 south of the Benjamin Franklin Bridge, without permission of the Captain of the Port.

(3) No vessel may anchor in Anchorage 11 after 1 a.m. on June 23, 2000 without permission of the Captain of the Port.

(4) Anchorage 12:

(i) No vessel may anchor north of latitude 39° 55′41′′ N without permission of the Captain of the Port.

(ii) South of latitude 39° 55′41′′ N is designated for the exclusive use of spectator vessels. “Spectator vessels” includes any vessel, commercial or recreational, being used for pleasure or carrying passengers, that is in the Port of Philadelphia to observe part or all of the events attendant to OPSAIL 2000.

PART 165—[AMENDED]

3. The authority citation for Part 165 continues to read as follows:

Authority: 33 U.S.C. 1225 and 1231; 50 U.S.C. 191; 33 CFR 1.05-1(g), 6.04-1, 6.04-6, and 160.5; 49 CFR 1.46. Section 165.100 is also issued under authority of Sec. 311, Pub. L. 105-383.

4. Add temporary § 165.T05-002 to read as follows:

§ 165.T05-002 Safety Zone; OPSAIL 2000, Delaware River, Philadelphia, PA.

(a) Definitions. (1) Captain of the Port means the Commanding Officer of the Coast Guard Marine Safety Office/Group Philadelphia or any Coast Guard commissioned, warrant, or petty officer who has been authorized by the Captain of the Port to act on his behalf.

(2) Coast Guard Patrol Commander is a commissioned, warrant, or petty officer of the Coast Guard who has been designated by the Commanding Officer, Coast Guard Marine Safety Office/Group Philadelphia.

(3) OPSAIL 2000 Vessels includes all vessels participating in Operation Sail 2000 under the auspices of the Marine Event Permit submitted for the Port of Philadelphia and approved by Commander, Fifth Coast Guard District.

(b) Location. The following areas are Safety Zones:

(1) Parade of Sail—First Segment: This moving safety zone includes all waters from 500 yards forward of the lead OPSAIL 2000 vessel to 100 yards aft of the last OPSAIL 2000 vessel, and extending 50 yards outboard of each OPSAIL 2000 vessel participating in the Parade of Sail. This safety zone will move with the Parade of Sail as it transits the Delaware River from Anchorage 9 (Mantua Creek anchorage) to the Walt Whitman Bridge.

(2) Parade of Sail—Second Segment: All waters of the Delaware River, from shoreline to shoreline, bounded on the south by the Walt Whitman Bridge and on the north by the Benjamin Franklin Bridge with the exception of the southern portion of Anchorage 12, defined as that portion of the anchorage south of latitude 39° 55′41′′ N.

(c) Regulations. (1) All persons are required to comply with the general regulations governing safety zones in § 165.23 of this part.

(2) No person or vessel may enter or navigate within these regulated areas unless authorized to do so by the Coast Guard Patrol Commander. Any person or vessel authorized to enter the regulated area must operate in strict conformance with any directions given by the Captain of the Port and leave the regulated area immediately if the Coast Guard Patrol Commander so orders.

(3) The Coast Guard vessels enforcing this section can be contacted on VHF Marine Band Radio, channels 13 and 16. The Captain of the Port can be contacted at telephone number (215) 271-4940.

(4) The Coast Guard Patrol Commander will notify the public of changes in the status of these zones by Marine Safety Radio Broadcast on VHF-FM marine band radio, channel 22 (157.1 MHZ).

(d) Effective dates: This section is effective from 8 a.m. to 4 p.m. on June 23, 2000.

Dated: March 10, 2000.
J.E. Shkor,
Vice Admiral, U.S. Coast Guard, Commander Fifth Coast Guard District.

[FR Doc. 00-7467 Filed 3-27-00; 8:45 am]

BILLING CODE 4910-15-U